DEPARTMENT OF AGRICULTURE

Forest Service

Notice of Lewis and Clark County Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Helena National Forest's Lewis and Clark County Resource Advisory Committee will meet on Monday February 27 from 3 p.m. until 6 p.m. in Helena, Montana, for a business meeting. The meeting is open to the public.

DATES: Monday, February 27, 2006.

ADDRESSES: The meeting will be held in the conference room at the Helena Chamber of Commerce, 225 Cruse Avenue, Helena, MT 59601.

FOR FURTHER INFORMATION CONTACT: Duane H. Harp, Designated Forest Official (DFO), District Ranger, Helena Ranger District, Helena National Forest, at (406) 449-5490.

SUPPLEMENTARY INFORMATION: Agenda topics for this meeting include review of projects proposed for funding and public comment as authorized under Title II of Pub. L. 106-393. If the meeting location is changed, notice will be posted in local newspapers, including the Helena Independent Record.

Dated: January 20, 2006.
Duane H. Harp,
District Ranger.

[FR Doc. E6-1028 Filed 1-26-06; 8:45 am]

BILLING CODE 3410-11-P